DEPARTMENT OF AGRICULTURE

Food Safety and Inspection Service

[Docket No. FSIS-2009-0030]

Codex Alimentarius Commission: Meeting of the Codex Committee on Food Hygiene

AGENCY: Office of the Acting Under Secretary for Food Safety, USDA.

ACTION: Notice of public meeting and request for comments.

SUMMARY: The Office of the Acting Under Secretary for Food Safety, U.S. Department of Agriculture (USDA), and the Food and Drug Administration (FDA), of the U.S. Department of Health and Human Services, are sponsoring a public meeting on October 28, 2009. The objective of the public meeting is to provide information and receive public comments on agenda items and draft U.S. positions that will be discussed at the 41st Session of the Codex Committee on Food Hygiene (CCFH) of the Codex Alimentarius Commission (Codex), which will be held in San Diego, California, from November 16 through November 20, 2009. The Acting Under Secretary for Food Safety and FDA recognize the importance of providing interested parties the opportunity to obtain background information on the 41st session of the CCFH and to address items on the agenda.

DATES: The public meeting is scheduled for Wednesday, October 28, 2009, from 1 p.m. to 4 p.m.

ADDRESSES: The public meeting will be held at FDA, Harvey Wiley Federal Building, 5100 Paint Branch Parkway, Room 1A-003 (Auditorium), College Park, MD 20740. Documents related to the 41st Session of the CCFH will be accessible via the World Wide Web at the following address: http://www.codexalimentarius.net/current.asp.

The U.S. Delegate to the 41st Session of the CCFH invites interested U.S. parties to submit their comments electronically to the following e-mail address Donald.Zink@fda.hhs.gov.

Registration: All visitors must pass through security screening in the front lobby of the building and will be directed to the auditorium. Visitors who wish to come to the building via automobile may park in the FDA parking lot next to the building. Those parking in the FDA lot will need to pass through the guard station at the River Road entrance. To expedite entry to the parking lot, it is recommended that visitors who drive to the meeting contact Jasmine Matthews in the U.S. Codex Office and provide their name, vehicle make, model, color, and license plate number, by close of business on October 23, 2009.

FOR FURTHER INFORMATION ABOUT THE 41ST SESSION OF THE CCFH CONTACT: Barbara McNiff, 1400 Independence Avenue, SW., Room 4870, Washington, DC 20250, (202) 690-4719, Barbara.McNiff@fsis.usda.gov.

FOR FURTHER INFORMATION ABOUT THE PUBLIC MEETING CONTACT: Jasmine Matthews, Program Analyst, U.S. Codex Office, 1400 Independence Avenue, Room 4861, Washington, DC 20250, (202) 690-1124, Jasmine.Matthews@fsis.usda.gov.

SUPPLEMENTARY INFORMATION:

Background

The Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFH was established to draft basic provisions on food hygiene applicable to all food; to consider, amend if necessary, and endorse provisions on hygiene prepared by Codex commodity committees and contained in Codex codes of practice unless, in specific cases, the Codex has decided otherwise; to draft provisions on hygiene applicable to specific food items or food groups, whether coming within the terms of reference of a Codex commodity committee or not; to consider specific hygiene problems assigned to it by the Codex; to suggest and prioritize areas where there is a need for microbiological risk assessment at the international level; to develop questions to be addressed by the risk assessors; and to consider microbiological risk management matters in relation to food hygiene, including food irradiation, and in relation to the risk assessment of FAO and WHO.

The CCFH is hosted by the United States of America.

Issues to be Discussed at the Public Meeting

The following items on the agenda for the 41st Session of the CCFH will be discussed during the public meeting:

• Matters Referred by the Codex and Other Codex Committees to the CCFH;

• Matters Arising from the Work of FAO, WHO, and Other International Intergovernmental Organizations:

(a) Progress Report on the Joint FAO and WHO Expert Meetings on Microbiological Risk Assessment and Related Matters

(b) Information from the World Organization for Animal Health

• Proposed Draft Guidelines for the Control of Campylobacter and Salmonella spp. in Chicken Products at Step 4;

• Proposed Draft Annex on Leafy Green Vegetables, Including Leafy Herbs, to the Code of Hygienic Practice for Fresh Fruits and Vegetables at Step 4;

• Proposed Draft Code of Hygienic Practice for Vibrio spp. in Seafood at Step 4;

• Proposed Draft Annex on Control Measures for Vibrio parahaemolyticus and Vibrio vulnificus in Molluscan Shellfish;

• Proposed Draft Code of Hygienic Practice for Control of Viruses in Food at Step 4;

• Inconsistencies Arising in Documents Elaborated by the CCFH and Adopted by the Codex;

• Discussion of the Report of the Ad Hoc Working Group for Establishment of CCFH Work Priorities.

Each issue listed will be fully described in documents distributed, or to be distributed, by the Secretariat prior to the meeting. Members of the public may access copies of these documents (see ADDRESSES).

Public Meeting

At the October 28, 2009, public meeting, draft U.S. positions on the agenda items will be described and discussed, and attendees will have the opportunity to pose questions and offer comments. Written comments may be offered at the meeting or sent to the U.S. Delegate for the 41st Session of the CCFH, Donald Zink (see ADDRESSES). Written comments should state that they relate to activities of the 41st Session of the CCFH.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The FSIS Constituent Update is communicated via Listserv, a free electronic mail subscription service for industry, trade groups, consumer interest groups, health professionals, and other individuals who have asked to be included. The FSIS Constituent Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on October 20, 2009.
Karen Stuck,
U.S. Manager for Codex Alimentarius.

[FR Doc. E9-25527 Filed 10-22-09; 8:45 am]

BILLING CODE 3410-DM-P